DEPARTMENT OF ENERGY

Federal Energy Regulatory Commission

[Docket No. RP02-60-000]

Texas Eastern Transmission, LP; Notice of Compliance Filing

December 4, 2001.

Take notice that on November 28, 2001, Texas Eastern Transmission, LP (Texas Eastern) tendered for filing as part of its FERC Gas Tariff, Seventh Revised Volume No. 1 and First Revised Volume No. 2, the revised tariff sheets listed on Appendix A to the filing, to become effective January 1, 2002.

Texas Eastern states that the purpose of this filing is to revise the Gas Research Institute (GRI) surcharges to be effective January 1, 2002 in compliance with the January 21, 1998, Stipulation and Agreement Concerning GRI Funding approved by the Commission in Gas Research Institute, 83 FERC ¶ 61,093 (1998), order on reh'g, 83 FERC ¶ 61,331 (1998).

Texas Eastern states that the filing complies with the surcharges set forth in Appendix A to the Stipulation and Agreement as adjusted upward by 10% consistent with Article II, Section 1.0 of the Stipulation and Agreement, which was approved for filing by GRI member pipelines to be effective on January 1, 2002 without suspension or potential refund obligation by OMTR letter order issued September 19, 2001 in GRI's Docket No. RP01-434.

Specifically, Texas Eastern states that the approved 2002 surcharges are as follows: (1) A GRI volumetric surcharge of 0.55¢ per dekatherm will be charged on all non-discounted firm commodity and interruptible transportation services; (2) a 0.88¢ per dekatherm surcharge will be charged on all non-discounted firm commodity units delivered to small customers qualifying for service under Texas Eastern's Rate Schedule SCT; (3) a reservation surcharge of 6.6¢ per dekatherm per month will be charged on non-discounted firm high load factor customers, i.e., greater than 50% load factor; and (4) a reservation surcharge of 4.07¢ per dekatherm per month will be charged on non-discounted firm low load factor customers, i.e., less than or equal to 50% load factor.

Texas Eastern states that copies of the filing were mailed to all affected customers of Texas Eastern and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-30409 Filed 12-7-01; 8:45 am]

BILLING CODE 6717-01-P